NUCLEAR REGULATORY COMMISSION

Advisory Committee on Reactor Safeguards

Subcommittee Meeting on Planning and Procedures; Revised

The ACRS Subcommittee meeting on Planning and Procedures scheduled to start at 1:00 p.m. on January 31, 2001, Room T-2B1, 11545 Rockville Pike, Rockville, Maryland has been changed to start at 10:00 a.m. Notice of this meeting was published in the Federal Register on Thursday, December 28, 2000 (65 FR 82410). All other items pertaining to this meeting remain the same as previously published.

For further information contact: Dr. John T. Larkins, cognizant ACRS staff person, (telephone: 301/415-7360) between 7:30 a.m. and 4:15 p.m. (EST).

Dated: January 23, 2001.
James E. Lyons,
Associate Director for Technical Support, ACRS/ACNW.

[FR Doc. 01-2536 Filed 1-29-01; 8:45 am]

BILLING CODE 7590-01-P